DEPARTMENT OF ENERGY

Federal Energy Regulatory Commission

[Docket Nos. CP04-386-000, CP04-400-000, CP04-401-000, and CP04-402-000]

Golden Pass LNG Terminal L.P. and Golden Pass Pipeline L.P.; Notice of Availability of the Final Conformity Determination for the Golden Pass LNG Terminal and Pipeline Project

July 20, 2005.

The staff of the Federal Energy Regulatory Commission has prepared a Final General Conformity Determination to assess the potential air quality impacts associated with the construction and operation of a liquefied natural gas (LNG) import terminal and natural gas pipeline proposed by Golden Pass LNG Terminal, L.P. (Golden Pass LNG) and Golden Pass Pipeline, L.P. (Golden Pass Pipeline) referred to as the Golden Pass LNG Terminal and Pipeline Project, in the above-referenced dockets.

This Final General Conformity Determination was prepared to satisfy the requirements of the Clean Air Act.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659.

Magalie R. Salas,
Secretary.

[FR Doc. E5-4046 Filed 7-28-05; 8:45 am]

BILLING CODE 6717-01-P